DEPARTMENT OF TRANSPORTATION

Federal Aviation Administration

14 CFR Part 39

[Docket No. FAA-2015-0085; Directorate Identifier 2014-NM-078-AD; Amendment 39-18255; AD 2015-17-22]

RIN 2120-AA64

Airworthiness Directives; Airbus Airplanes

AGENCY: Federal Aviation Administration (FAA), Department of Transportation (DOT).

ACTION: Final rule.

SUMMARY: We are adopting a new airworthiness directive (AD) for all Airbus Model A330-243, A330-243F, A330-341, A330-342, and A330-343 airplanes. This AD was prompted by reports indicating that certain hinge sleeves on the cowl doors of the thrust reverser units (TRUs) were not heat treated. This AD requires replacing the sleeves of certain hinges on the cowl doors of the TRUs with new parts. We are issuing this AD to prevent, in the event of a fan-blade-off event due to high vibration, in-flight loss of TRU heavy components, which might damage airplane structure or control surfaces and consequently reduce controllability of the airplane.

DATES: This AD becomes effective October 7, 2015.

The Director of the Federal Register approved the incorporation by reference of certain publications listed in this AD as of October 7, 2015.

ADDRESSES: You may examine the AD docket on the Internet at http://www.regulations.gov/#!docketDetail;D=FAA-2015-0085 or in person at the Docket Management Facility, U.S. Department of Transportation, Docket Operations, M-30, West Building Ground Floor, Room W12-140, 1200 New Jersey Avenue SE., Washington, DC.

For Airbus service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. For Aircelle service information identified in this AD, contact Aircelle Customer support Center, BP 50042, 50, rue Pierre Curie, 78371 Plaisir Cedex, France: telephone +33 (0)1 64 14 80 33; fax +33 (0)1 64 14 84 10. You may view this referenced service information at the FAA, Transport Airplane Directorate, 1601 Lind Avenue SW., Renton, WA. For information on the availability of this material at the FAA, call 425-227-1221. It is also available on the Internet at http://www.regulations.gov by searching for and locating Docket No. FAA-2015-0085.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to all Airbus Model A330-243, A330-243F, A330-341, A330-342, and A330-343 airplanes. The NPRM published in the Federal Register on February 13, 2015 (80 FR 7986).

The European Aviation Safety Agency (EASA), which is the Technical Agent for the Member States of the European Union, has issued EASA Airworthiness Directive 2014-0062, dated March 11, 2014 (referred to after this as the Mandatory Continuing Airworthiness Information, or “the MCAI”), to correct an unsafe condition for all Airbus Model A330-243, A330-243F, A330-341, A330-342, and A330-343 airplanes. The MCAI states:

A manufacturing discrepancy (lack of heat treatment) on a batch of the N°3 and N°4 hinge sleeves installed on [a] Thrust Reverser Unit (TRU) was identified. Those parts are only installed on A330 aeroplanes equipped with Rolls-Royce (RR) Trent 700 engines.

This condition, if not corrected, in case of a Fan Blade Off event due to high vibration level, could cause in-flight loss of some heavy components of the TRU, possibly resulting in injury to persons on the ground [or damage to airplane structure or control surfaces, and consequent reduced controllability of the airplane].

As current hinge sleeves are not serialized, it is not possible to identify the TRU hinge sleeves which did not receive the heat treatment. The part supplier has developed an identification procedure for these TRU hinge sleeves in order to identify the affected hinge sleeves, and to allow a better part traceability in the future.

For the reason described above, this [EASA] AD requires identification and replacement of the affected TRU hinge sleeves.

You may examine the MCAI in the AD docket on the Internet at http://www.regulations.gov/#!documentDetail;D=FAA-2015-0085-0002.

Comments

We gave the public the opportunity to participate in developing this AD. We received no comments on the NPRM (80 FR 7986, February 13, 2015) or on the determination of the cost to the public.

Conclusion

We reviewed the relevant data and determined that air safety and the public interest require adopting this AD as proposed except for minor editorial changes. We have determined that these minor changes:

• Are consistent with the intent that was proposed in the NPRM (80 FR 7986, February 13, 2015) for correcting the unsafe condition; and

• Do not add any additional burden upon the public than was already proposed in the NPRM (80 FR 7986, February 13, 2015).

Related Service Information Under 1 CFR Part 51

Airbus has issued Service Bulletin A330-78-3021, Revision 03, dated October 15, 2014. Aircelle has issued Service Bulletin 78-AG924, dated September 26, 2012. This service information describes procedures for modifying and marking the sleeves for hinges number 3 and number 4 on the cowl doors of Rolls-Royce Trent 700 engines. This service information is reasonably available because the interested parties have access to it through their normal course of business or by the means identified in the ADDRESSES section of this AD.

Costs of Compliance

We estimate that this AD affects 24 airplanes of U.S. registry.

We also estimate that it will take about 29 work-hours per product to comply with the basic requirements of this AD. The average labor rate is $85 per work-hour. Required parts will cost about $0 per product. Based on these figures, we estimate the cost of this AD on U.S. operators to be $59,160, or $2,465 per product.

In addition, we estimate that any necessary follow-on action will take up to 1 work-hour and require parts costing $0, for a cost of $85 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-015-0085; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-17-22 Airbus: Amendment 39-18255. Docket No. FAA-2015-0085; Directorate Identifier 2014-NM-078-AD.

(a) Effective Date

This AD becomes effective October 7, 2015.

(b) Affected ADs

None.

(c) Applicability

This AD applies to all Airbus Model A330-243, A330-243F, A330-341, A330-342, and A330-343 airplanes, certificated in any category, all manufacturer serial numbers.

(d) Subject

Air Transport Association (ATA) of America Code 78, Exhaust.

(e) Reason

This AD was prompted by reports indicating that certain hinge sleeves on the cowl doors of the thrust reverser units (TRUs) were not heat treated. We are issuing this AD to prevent, in the event of a fan-blade-off event due to high vibration, in-flight loss of TRU heavy components, which might damage airplane structure or control surfaces and consequently reduce controllability of the airplane.

(f) Compliance

Comply with this AD within the compliance times specified, unless already done.

(g) Identification of TRU Part Number

Within 12 months after the effective date of this AD: Identify the part number of the TRUs, in accordance with the information in Aircelle Service Bulletin 78-AG924, dated September 26, 2012.

(h) Replacement of TRU Hinge Sleeves

If the results of the part identification required by paragraph (g) of this AD reveal that the TRUs are affected: Within the compliance time defined in paragraph (g) of this AD, replace hinge sleeves numbers 3 and 4 of each TRU cowl door, in accordance with the Accomplishment Instructions of Airbus Service Bulletin A330-78-3021, Revision 03, dated October 15, 2014.

Note 1 to paragraph (h) of this AD: Rolls-Royce Alert Service Bulletin RB.211-78-AG924, dated September 26, 2012, is an additional source of guidance for replacing the TRUs and is not incorporated by reference in this AD.

(i) Optional Terminating Action for Paragraphs (g) and (h) of this AD

Modifying an airplane by incorporating Airbus Modification 202463 in production terminates the requirements specified in paragraphs (g) and (h) of this AD for that airplane.

(j) Parts Installation Limitation

As of the effective date of this AD, no person may install a TRU on any airplane unless it has been determined, using Aircelle Service Bulletin 78-AG924, dated September 26, 2012, that the cowl door hinge sleeves installed on the TRU are not affected by the requirements of this AD.

(k) Credit for Previous Actions

This paragraph provides credit for the actions required by paragraph (h) of this AD if those actions were performed before the effective date of this AD using the service information identified in paragraphs (k)(1), (k)(2), or (k)(3) of this AD, which are not incorporated by reference in this AD.

(1) Airbus Service Bulletin A330-78-3021, dated October 17, 2012.

(2) Airbus Service Bulletin A330-78-3021, Revision 01, dated July 30, 2013.

(3) Airbus Service Bulletin A330-78-3021, Revision 02, dated April 17, 2014.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): Where Airbus Service Bulletin A330-78-3021, Revision 03, dated October 15, 2014, contains procedures or tests that are identified as RC, those procedures and tests must be done to comply with this AD; any procedures and tests that are not identified as RC are recommended. Those procedures and tests that are not identified as RC may be deviated from using accepted methods in accordance with the operators' maintenance or inspection program without obtaining approval of an AMOC, provided the procedures and tests identified as RC can be done and the airplane can be put back in a serviceable condition. Any substitutions or changes to procedures or tests identified as RC require approval of an AMOC.

(m) Related Information

(1) Refer to Mandatory Continuing Airworthiness Information (MCAI) EASA AD 2014-0062, dated March 11, 2014, for related information. This MCAI may be found in the AD docket on the Internet at http://www.regulations.gov/#!documentDetail;D=FAA-2015-0085-0002.

(2) Airbus service information identified in this AD that is not incorporated by reference is available at the addresses specified in paragraphs (n)(3) and (n)(5) of this AD.

(3) Rolls-Royce service information identified in this AD that is not incorporated by reference is available at Rolls-Royce plc, P.O. Box 31, Derby, DE24 8BJ, England; phone: 011-44-1332-242424; fax: 011-244-1332-249936; email: http://www.rolls-royce.com/contact/civil_team.jsp; Internet: https://www.aeromanager.com.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-78-3021, Revision 03, dated October 15, 2014.

(ii) Aircelle Service Bulletin 78-AG924, dated September 26, 2012.

(3) For Airbus service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) For Aircelle service information identified in this AD, contact Aircelle Customer support Center, BP 50042, 50, rue Pierre Curie, 78371 Plaisir Cedex, France: telephone +33 (0)1 64 14 80 33; fax +33 (0)1 64 14 84 10.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on August 21, 2015.
Kevin Hull,
Acting Manager, Transport Airplane Directorate, Aircraft Certification Service.

[FR Doc. 2015-21475 Filed 9-1-15; 8:45 am]

BILLING CODE 4910-13-P